OFFICE OF THE UNITED STATES TRADE REPRESENTATIVE

Procurement Thresholds for Implementation of the Trade Agreements Act of 1979; Correction

AGENCY: Office of the United States Trade Representative.

ACTION: Correction of certain procurement thresholds under the World Trade Organization Agreement on Government Procurement, the United States-Australia Free Trade Agreement, the United States-Bahrain Free Trade Agreement, the United States-Chile Free Trade Agreement, the Dominican Republic-Central American-United States Free Trade Agreement, the United States-Morocco Free Trade Agreement, and the United States-Singapore Free Trade Agreement.

FOR FURTHER INFORMATION CONTACT: Jean Heilman Grier, Senior Procurement Negotiator, Office of the United States Trade Representative, (202) 395-9476 or Jean_Grier@ustr.eop.gov.

SUMMARY: On December 14, 2007, the Office of the United States Trade Representative (USTR) published notice of the Procurement Thresholds for Implementation of the Trade Agreements Act of 1979 (72 FR 71166). That Notice included three incorrect procurement threshold values due to inadvertent calculation errors. This notice provides the corrected thresholds.

Now, therefore, I, Susan C. Schwab, United States Trade Representative, in conformity with the provisions of Executive Order 12260, and in order to carry out the trade agreement obligations of the United States under the World Trade Organization Agreement on Government Procurement (WTO/GPA), Chapter 15 of the United States-Australia Free Trade Agreement (U.S.-Australia FTA), Chapter 9 of the United States-Bahrain Free Trade Agreement (U.S.-Bahrain FTA), Chapter 9 of the United States-Chile Free Trade Agreement (U.S.-Chile FTA), Chapter 9 of the Dominican Republic-Central American-United States (DR-CAFTA), Chapter 9 of the United States-Morocco Free Trade Agreement (U.S.-Morocco FTA), and Chapter 13 of the United States-Singapore Free Trade Agreement (U.S.-Singapore FTA), do hereby determine, effective on January 1, 2008, for the calendar years 2008-2009, the following thresholds shall apply and replace those set out in the Determination published on December 14, 2007 (72 FR 71166):

$7,443,000—for the procurement of construction services by all entities listed in the WTO/GPA, U.S.-Australia FTA, U.S.-Chile FTA, DR-CAFTA, U.S.-Morocco FTA, and the U.S.-Singapore FTA.

$528,000—for the procurement of goods and services by sub-central entities listed in the WTO/GPA, U.S.-Australia FTA, U.S.-Chile FTA, DR-CAFTA, U.S.-Morocco FTA, and the U.S.-Singapore FTA.

$595,000—for the procurement of goods and services by entities listed in U.S. Annex 3 of the WTO/GPA; List B in Annex 15-A of the U.S.-Australia FTA; List B in Annex 9-A, Section 3 of the U.S.-Bahrain FTA; List B in Annex 9.1, Section C of the U.S.-Chile FTA; List B in Annex 9.1, Section C of the DR-CAFTA; List B in Annex 9.1, Section C of the U.S.-Morocco FTA; and Annex 13A, Section C of the U.S.-Singapore FTA.

Susan C. Schwab,
United States Trade Representative.

[FR Doc. E7-25330 Filed 12-27-07; 8:45 am]

BILLING CODE 3190-W8-P